INTERNATIONAL TRADE COMMISSION

[Investigation No. 337-TA-643]

In the Matter of Certain Cigarettes and Packaging Thereof; Notice of Commission Decision Not To Review an Initial Determination Correcting the Names of Certain Respondents

AGENCY: U.S. International Trade Commission.

ACTION: Notice.

SUMMARY: Notice is hereby given that the U.S. International Trade Commission has determined not to review an initial determination (“ID”) (Order No. 4) issued by the presiding administrative law judge (“ALJ”) in the above-referenced investigation correcting the names of certain respondents in the notice of investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 4, 2008, based on a complaint filed by Philip Morris USA Inc. (“Philip Morris”). 73 FR 18561 (April 4, 2008). The complaint alleges violations of section 337 of the Tariff Act of 1930 (19 U.S.C. 1337) in the importation into the United States, the sale for importation, and the sale within the United States after importation of certain cigarettes and packaging thereof by reason of infringement of various United States trademark registrations. The complaint names thirteen respondents.

On May 29, 2008, a preliminary conference was conducted with counsel for complainant Philip Morris, counsel for respondent Alcesia SRL (“Alcesia”), and the Commission Investigative Attorney (“IA”). Respondent Alcesia had previously been identified in the notice of investigation as “Eugenia Moscovchuk d.b.a. Cigoutlet.biz.” During the preliminary conference, respondent Alcesia requested that its name be corrected to “Alcesia SRL.” No party at the preliminary conference had any opposition to the issuance of an ID correcting the name of respondent Alcesia.

At the preliminary conference, reference was also made to the respondent Best Product Solution Ltd. (“Best Product”), which had previously been identified in the notice of investigation as “Best Product Solution Limited d.b.a. Dirtcheapbutts.com.” In respondent Best Product's response to the complaint, it indicated that it has never, and does not now, do business under the name used in the notice of investigation. Neither complainant Philip Morris nor the IA had any objection to issuing an ID to correct the name of respondent Best Product to “Best Product Solution Ltd.”

On June 3, 2008, the ALJ issued the subject ID correcting the names of respondent Alcesia and respondent Best Product. No petitions for review were filed.

The Commission has determined not to review the ALJ's ID.

The authority for the Commission's determination is contained in section 337 of the Tariff Act of 1930, as amended (19 U.S.C. 1337), and in section 210.42 of the Commission's Rules of Practice and Procedure (19 CFR 210.42).

By order of the Commission.
Issued: June 20, 2008.
Marilyn R. Abbott,
Secretary to the Commission.

[FR Doc. E8-14434 Filed 6-25-08; 8:45 am]

BILLING CODE 7020-02-P